DEPARTMENT OF AGRICULTURE

Animal and Plant Health Inspection Service

[Docket No. APHIS-2013-0005]

Notice of Request for Revision to and Reinstatement of an Expired Information Collection; Bees and Related Articles

AGENCY: Animal and Plant Health Inspection Service, USDA.

ACTION: Revision to and reinstatement of an expired information collection; comment request.

SUMMARY: In accordance with the Paperwork Reduction Act of 1995, this notice announces the Animal and Plant Health Inspection Service's intention to request a revision to and reinstatement of an expired information collection associated with the regulations for the importation of bees and related articles into the United States.

DATES: We will consider all comments that we receive on or before October 28, 2013.

ADDRESSES: You may submit comments by either of the following methods:

• Federal eRulemaking Portal: Go to http://www.regulations.gov/#!documentDetail;D=APHIS-2013-0005-0001.

• Postal Mail/Commercial Delivery: Send your comment to Docket No. APHIS-2013-0005, Regulatory Analysis and Development, PPD, APHIS, Station 3A-03.8, 4700 River Road Unit 118, Riverdale, MD 20737-1238.

Supporting documents and any comments we receive on this docket may be viewed at http://www.regulations.gov/#!docketDetail;D=APHIS-2013-0005 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the importation of bees and related articles, contact Dr. Colin Stewart, Senior Entomologist, Pest Permit Evaluations, PPQ, APHIS, 4700 River Road Unit 133, Riverdale, MD 20737; (301) 851-2038, email: Colin.D.Stewart@aphis.usda.gov. For copies of more detailed information on the information collection, contact Mrs. Celeste Sickles, APHIS' Information Collection Coordinator, at (301) 851-2908.

SUPPLEMENTARY INFORMATION:

Title: Bees and Related Articles.

OMB Number: 0579-0207.

Type of Request: Revision to and reinstatement of an expired information collection.

Abstract: The Plant Protection Act (7 U.S.C. 7701 et seq.) authorizes the Secretary of Agriculture to restrict the importation, entry, or interstate movement of plants, plant products, and other articles to prevent the introduction of plant pests into the United States or their dissemination within the United States.

Under the Honeybee Act (7 U.S.C. 281-286), the Secretary is authorized to prohibit or restrict the importation of honeybees and honeybee semen to prevent the introduction into the United States of diseases and parasites harmful to honeybees and of undesirable species such as the African honey bee. This authority has been delegated to the Animal and Plant Health Inspection Service (APHIS) of the U.S. Department of Agriculture.

The establishment of certain bee diseases, parasites, or undesirable species and subspecies of honeybees in the United States could cause substantial reductions in pollination by bees. These reductions could cause serious damage to crops and other plants and result in substantial financial losses to American agriculture.

Regulations for the importation of honeybees and honeybee semen and regulations to prevent the introduction of exotic bee diseases and parasites through the importation of bees other than honeybees, certain beekeeping products, and used beekeeping equipment are contained in 7 CFR part 322, “Bees, Beekeeping Byproducts, and Beekeeping Equipment.” These regulations require the use of certain information collection activities, including an application for a permit, appeal for withdrawal of a permit, request for risk assessment, transit documentation, packaging and labeling, recordkeeping for containment facilities, and notices of arrival for shipments from approved regions, transit shipments, and restricted articles.

The listed information collection activities were previously approved by the Office of Management and Budget (OMB). However, since the previous approval, there have been several changes. We no longer require the use of an export certificate (Plant Protection and Quarantine Form 578). In addition, the estimated total annual burden on respondents has decreased from 567 hours to 56 hours due to the removal of Australia as a participating country. There is also a decrease in the estimated annual number of respondents from 336 to 199 due to the removal of Australia and duplication of respondents on two of the required documents.

We are asking OMB to approve our use of these information collection activities, as described, for 3 years.

The purpose of this notice is to solicit comments from the public (as well as agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.155 hours per response.

Respondents: Importers, exporters, and shippers of bees and related articles; foreign governments; and containment facilities.

Estimated annual number of respondents: 199.

Estimated annual number of responses per respondent: 1.814.

Estimated annual number of responses: 361.

Estimated total annual burden on respondents: 56 hours. (Due to averaging, the total annual burden hours may not equal the product of the annual number of responses multiplied by the reporting burden per response.)

All responses to this notice will be summarized and included in the request for OMB approval. All comments will also become a matter of public record.

Done in Washington, DC, this 23rd day of August 2013.
Kevin Shea,
Administrator, Animal and Plant Health Inspection Service.

[FR Doc. 2013-21131 Filed 8-28-13; 8:45 am]

BILLING CODE 3410-34-P